FEDERAL COMMUNICATIONS COMMISSION

Notice of Public Information Collection(s) Being Reviewed by the Federal Communications Commission for Extension Under Delegated Authority, Comments Requested

January 9, 2008.

SUMMARY: The Federal Communications Commission, as part of its continuing effort to reduce paperwork burden, invites the general public and other Federal agencies to take this opportunity to comment on the following information collection(s), as required by the Paperwork Reduction Act of 1995 (PRA), 44 U.S.C. 3501-3520. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before March 17, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554.

FOR FURTHER INFORMATION CONTACT: For additional information about the information collection(s), contact Leslie F. Smith via the Internet at PRA@fcc.gov or call (202) 418-0217.

SUPPLEMENTARY INFORMATION: OMB Control Number: 3060-0391.

Title: Program To Monitor the Impacts of the Universal Service Support Mechanisms, CC Docket Nos. 98-202 and 96-45.

Form Number: N/A.

Type of Review: Extension of a currently approved collection.

Respondents: Business or other for-profit.

Number of Respondents and Responses: 195 respondents; 1,443 responses.

Estimated Time per Response: 40 minutes (0.666 hours).

Obligation To Respond: Required to obtain or retain benefits.

Frequency of Response: Annual reporting requirement; and third party disclosure requirement.

Total Annual Burden: 962 hours.

Total Annual Cost: $0.00.

Privacy Act Impact Assessment: No impacts.

Nature of Extent of Confidentiality: The respondents may request confidentiality protection for the special access performance information. The respondents are not required to file their customers' monthly usage information with the Federal Communications Commission (FCC).

Needs and Uses: This information is collected by the National Exchange Carriers Association (NECA). NECA acts as the access billing agent for most small companies, and requests the data from the other companies. The Commission notes that there has been some to industry consolidations, resulting in fewer responses.

Federal Communications Commission.
Marlene H. Dortch,
Secretary.

[FR Doc. E8-742 Filed 1-16-08; 8:45 am]

BILLING CODE 6712-01-P